DEPARTMENT OF AGRICULTURE

Forest Service

36 CFR Part 242

DEPARTMENT OF THE INTERIOR

Fish and Wildlife Service

50 CFR Part 100

RIN 1018-AI88

Subsistence Management Regulations for Public Lands in Alaska

AGENCIES: Forest Service, Agriculture; Fish and Wildlife Service, Interior.

ACTION: Affirmation of direct final rule.

SUMMARY: We, the U.S. Forest Service and U.S. Fish and Wildlife Service, are adopting, without change, a direct final rule that made two minor changes to the regulations governing subsistence use of wildlife in Alaska. Because we received no adverse comments on the direct final rule, it is now effective.

DATES: The direct final rule became effective April 21, 2003.

FOR FURTHER INFORMATION CONTACT: For Forest Service questions, contact Ken Thompson, Regional Subsistence Program Manager, USDA-FS Alaska Region, at (907) 786-3592. For Fish and Wildlife Service questions, contact Thomas H. Boyd at (907) 786-3888.

SUPPLEMENTARY INFORMATION:

Background

The regulations at 36 CFR part 242 and 50 CFR part 100 (referred to below as “the regulations”), authorized by Title VIII of the Alaska National Interest Lands Conservation Act (16 U.S.C. 3101-3126), implement the Federal Subsistence Management Program on public lands in Alaska. The Department of Agriculture's U.S. Forest Service and the Department of the Interior's U.S. Fish and Wildlife Service (referred to below as “the Departments”) jointly administer the regulations, which are identical in 36 CFR part 242 and 50 CFR part 100.

On May 7, 2002, the Departments published in the Federal Register a final rule that made changes to the regulations (67 FR 30559). On February 18, 2003, the Departments published a direct final rule (68 FR 7703) that addressed two issues that arose after publication of the May 7, 2002, final rule: We clarified how old a person must be to receive a Federal Subsistence Registration Permit or Federal Designated Harvester Permit and removed a requirement that Regional Councils must have an odd number of members. These changes clarified language that had been unclear and brought the regulations into accord with current policies. We published these changes as a direct final rule because we believed these changes to be noncontroversial and anticipated receiving no adverse public comment on them.

We did not receive any comments on the direct final rule during the public comment period provided. Therefore, the direct final rule became effective April 21, 2003, as specified in that rule.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

PART_—SUBSISTENCE MANAGEMENT REGULATIONS FOR PUBLIC LANDS IN ALASKA

Accordingly, we are affirming as a final rule, without change, the direct final rule amending 50 CFR 100 and 36 CFR 242 that was published at 68 FR 7703 on February 18, 2003.

Authority: 16 U.S.C. 3, 472, 551, 668dd, 3101-3126; 18 U.S.C. 3551-3586; 43 U.S.C. 1733.

Dated: April 15, 2003.
Thomas H. Boyd,
Acting Chair, Federal Subsistence Board.
Dated: April 15, 2003.
Kenneth E. Thompson,
Subsistence Program Manager, USDA—Forest Service.

[FR Doc. 03-10633 Filed 4-29-03; 8:45 am]

BILLING CODE 3410-11-P; 4310-55-P